DEPARTMENT OF COMMERCE

International Trade Administration

[A-580-809]

Circular Welded Non-Alloy Steel Pipe From the Republic of Korea: Preliminary Results of Antidumping Duty Administrative Review; 2014-2015

AGENCY: Enforcement and Compliance, International Trade Administration, Department of Commerce.

SUMMARY: The Department of Commerce (the Department) is conducting an administrative review of the antidumping duty order on circular welded non-alloy steel pipe (CWP) from the Republic of Korea (Korea). The period of review (POR) is November 1, 2014, through October 31, 2015. The Department preliminarily determines that the one individually-examined respondent in this review, Husteel Co., Ltd. (Husteel), made sales of the subject merchandise at prices below normal value, and that Hyundai Steel Company (Hyundai Steel) had no shipments of subject merchandise during the POR. Interested parties are invited to comment on these preliminary results.

DATES: Effective December 9, 2016.

FOR FURTHER INFORMATION CONTACT: Joseph Shuler, AD/CVD Operations, Office I, Enforcement and Compliance, International Trade Administration, U.S. Department of Commerce, 1401 Constitution Avenue NW., Washington, DC 20230; telephone (202) 482-1293.

Scope of the Order

The merchandise subject to the order is circular welded non-alloy steel pipe and tube. Imports of the product are currently classifiable in the Harmonized Tariff Schedule of the United States (HTSUS) under subheadings 7306.30.1000, 7306.30.5025, 7306.30.5032, 7306.30.5040, 7306.30.5055, 7306.30.5085, and 7306.30.5090. While the HTSUS subheadings are provided for convenience and customs purposes, the written description is dispositive. A full description of the scope of the order is contained in the Preliminary Decision Memorandum.¹

¹ For a full description of the scope of the order, see the Memorandum from Deputy Assistant Secretary Christian Marsh to Assistant Secretary Paul Piquado, “Decision Memorandum for the Preliminary Results of Antidumping Duty Administrative Review: Circular Welded Non-Alloy Steel Pipe from the Republic of Korea: 2014-2015,” dated concurrently with, and hereby adopted by this notice (Preliminary Decision Memorandum).

Methodology

The Department is conducting this review in accordance with section 751(a)(2) of the Tariff Act of 1930, as amended (the Act). Constructed export price is calculated in accordance with section 772 of the Act. Normal value is calculated in accordance with section 773 of the Act.

For a full description of the methodology underlying our conclusions, see the Preliminary Decision Memorandum. A list of topics discussed in the Preliminary Decision Memorandum is provided as Appendix I to this notice. The Preliminary Decision Memorandum is a public document and is on file electronically via Enforcement and Compliance's Antidumping and Countervailing Duty Centralized Electronic Service System (ACCESS) available to registered users at http://access.trade.gov and to all parties in the Central Records Unit, room B8024 of the main Department of Commerce building. In addition, a complete version of the Preliminary Decision Memorandum can be accessed directly at http://enforcement.trade.gov/frn/index.html.

Preliminary Determination of No Shipments

We received a timely submission from Hyundai Steel reporting to the Department that it had no exports, sales, or entries of subject merchandise to the United States during the POR.² Based on the certification submitted by Hyundai Steel and our analysis of information from U.S. Customs and Border Protection (CBP), we preliminarily determine that Hyundai Steel had no shipments of subject merchandise during the POR. For additional information on our preliminary no shipments determination, see the Preliminary Decision Memorandum.

² See Hyundai Steel's Letter to the Department, “Certain Circular Welded Non-Alloy Steel Pipe from Korea: No Shipment Letter,” dated February 11, 2016.

Preliminary Results of the Administrative Review

As a result of this review, we preliminarily determine that the following weighted-average dumping margins exist for the respondents for the period November 1, 2014, through October 31, 2015. The rate for the companies not selected for individual examination is equal to the weighted-average dumping margin for the selected respondent, Husteel.

Producer or exporter | Weighted- average dumping margin (percent)
Husteel Co., Ltd | 1.77
AJU Besteel | 1.77
NEXTEEL | 1.77
SeAH Steel Corporation | 1.77

Disclosure and Public Comment

We intend to disclose to interested parties the calculations performed for these preliminary results within five days of the date of publication of this notice.³ Interested parties may submit case briefs no later than 30 days after the date of publication of the preliminary results.⁴ Rebuttal briefs, limited to the issues raised in the case briefs, may be filed no later than five days after the submission of case briefs.⁵ Parties who submit case briefs or rebuttal briefs in this proceeding are encouraged to submit with each argument: (1) A statement of the issue; (2) a brief summary of the argument; and (3) a table of authorities.⁶

³ See 19 CFR 351.224(b).

⁴ See 19 CFR 351.309(c)(1)(ii).

⁵ See 19 CFR 351.309(d)(1).

⁶ See 19 CFR 351.309(c)(2) and (d)(2).

Interested parties who wish to request a hearing, must submit a written request to the Assistant Secretary for Enforcement and Compliance, filed electronically via ACCESS. An electronically filed document must be received successfully in its entirety by the Department's electronic records system, ACCESS, no later than 5:00 p.m. Eastern Time within 30 days of publication of this notice.⁷ Hearing requests should contain: (1) The party's name, address, and telephone number; (2) the number of participants; and (3) a list of the issues to be discussed. Issues raised in the hearing will be limited to those raised in the respective case briefs. The Department intends to issue the final results of this administrative review, including the results of its analysis of the issues raised in any written briefs, not later than 120 days after the date of publication of this notice, unless extended, pursuant to section 751(a)(3)(A) of the Act.

⁷ See 19 CFR 351.310(c).

Assessment Rates

If Husteel's weighted-average dumping margin is above de minimis in the final results of this review, we will calculate an importer-specific assessment rate on the basis of the ratio of the total amount of antidumping duties calculated for the importer's examined sales and the total entered value of the sales in accordance with 19 CFR 351.212(b)(1).⁸ If Husteel's weighted-average dumping margin is zero or de minimis in the final results of reviews, we will instruct CBP not to assess duties on any of its entries in accordance with the Final Modification for Reviews.⁹

⁸ In these preliminary results, the Department applied the assessment rate calculation method adopted in Antidumping Proceedings: Calculation of the Weighted-Average Dumping Margin and Assessment Rate in Certain Antidumping Duty Proceedings; Final Modification, 77 FR 8101 (February 14, 2012) (Final Modification for Reviews).

⁹ See Final Modification for Reviews, 77 FR at 8102.

For entries of subject merchandise during the POR produced by Husteel for which it did not know its merchandise was destined for the United States, we will instruct CBP to liquidate unreviewed entries at the all-others rate if there is no rate for the intermediate companies involved in the transaction. Consistent with our practice, if we continue to find that Hyundai Steel had no shipments of subject merchandise to the United States in the final results of this review, we intend to instruct CBP to liquidate any existing entries of merchandise produced by Hyundai Steel and exported by other parties at the all-others rate.

For AJU Besteel, NEXTEEL, and SeAH Steel Corporation (the companies not selected for individual examination), we will instruct CBP to apply the rate assigned to them in the final results of this review to all entries of subject merchandise produced and/or exported by these companies.

We intend to issue liquidation instructions to CBP 15 days after publication of the final results of these reviews.

Cash Deposit Requirements

The following cash deposit requirements will be effective upon publication of the notice of final results of this administrative review for all shipments of CWP from Korea entered, or withdrawn from warehouse, for consumption on or after the date of publication as provided by section 751(a)(2) of the Act: (1) The cash deposit rates for Husteel, AJU Besteel, NEXTEEL, and SeAH Steel Corporation will be equal to the weighted-average dumping margins established in the final results of this administrative review; (2) for merchandise exported by producers or exporters not covered in this review but covered in a prior completed segment of the proceeding, the cash deposit rate will continue to be the company-specific rate published for the most recent period; (3) if the exporter is not a firm covered in this review, a prior review, or the original investigation but the producer has been covered in a prior complete segment of this proceeding, the cash deposit rate will be the rate established for the most recent period for the producer of the merchandise; (4) the cash deposit rate for all other producers or exporters will continue to be 4.80 percent, the “all others” rate established in the order.¹⁰ These cash deposit requirements, when imposed, shall remain in effect until further notice.

¹⁰ See Notice of Antidumping Duty Orders: Certain Circular Welded Non-Alloy Steel Pipe from Brazil, the Republic of Korea (Korea), Mexico, and Venezuela, and Amendment to Final Determination of Sales at Less Than Fair Value: Certain Circular Welded Non-Alloy Steel Pipe from Korea, 57 FR 49453 (November 2, 1992).

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

The Department is issuing and publishing these preliminary results in accordance with sections 751(a)(1) and 777(i)(1) of the Act.

Dated: December 6, 2016.
Paul Piquado,
Assistant Secretary for Enforcement and Compliance.

Appendix I—List of Topics Discussed in the Preliminary Decision Memorandum

I. Summary

II. Background

III. Scope of the Order

IV. Preliminary Determination of No Shipments

V. Rates for Respondents Not Selected for Invididual Examination

VI. Discussion of The Methodology

A. Determination of Comparison Method

B. Results of the Differential Pricing Analysis

VII. Date of Sale

VIII. Product Comparisons

IX. Constructed Export Price

X. Normal Value

A. Comparison Market Viability

B. Affiliated Party Transactions and Arm's Length Test

C. Level of Trade/CEP Offset

D. Cost of Production Analysis

1. Calculation of Cost of Production

2. Test of Comparison Market Sales Prices

3. Results of the COP Test

E. Calculation of Normal Value Based on Comparison Market Prices

XI. Currency Conversion

XII. Recommendation

[FR Doc. 2016-29543 Filed 12-8-16; 8:45 am]

BILLING CODE 3510-DS-P